COMMISSION ON CIVIL RIGHTS

Notice of Public Meeting of the New Hampshire Advisory Committee

AGENCY: Commission on Civil Rights.

ACTION: Announcement of meeting.

SUMMARY: Notice is hereby given, pursuant to the provisions of the rules and regulations of the U.S. Commission on Civil Rights (Commission), and the Federal Advisory Committee Act (FACA), that a meeting of the New Hampshire Advisory Committee to the Commission will convene by conference call at 11:00 a.m. (EDT) on Friday, May 8, 2020. The purpose of the meeting is for project planning.

DATES: Friday, May 8, 2020, at 11:00 a.m. (EDT).

Public Call-In Information: Conference call-in number: 1-866-288-0540 and conference call 1587705.

FOR FURTHER INFORMATION CONTACT: Mallory Trachtenberg, at mtrachtenberg@usccr.gov or by phone at (312) 353-8311.

SUPPLEMENTARY INFORMATION: Members of the public may listen to the discussion by dialing the following Conference Call Toll-Free Number: 1-866-288-0540; Conference ID: 1587705. Please be advised that before being placed into the conference call, the operator will ask callers to provide their names, their organizational affiliations (if any), and an email address (if available) prior to placing callers into the conference room. Callers can expect to incur charges for calls they initiate over wireless lines, and the Commission will not refund any incurred charges. Callers will incur no charge for calls they initiate over land-line connections to the toll-free phone number.

Persons with hearing impairments may also follow the discussion by first calling the Federal Relay Service (FRS) at 1-800-877-8339 and provide the FRS operator with Conference Call Toll-Free Number: 1-866-288-0540; Conference ID: 1587705. Members of the public are invited to submit written comments; the comments must be received in the regional office by Monday, June 8, 2020. Written comments may be emailed to Mallory Trachtenberg at mtrachtenberg@usccr.gov. Persons who desire additional information may contact the Midwestern Regional Office at (312) 353-8311.

Records and documents discussed during the meeting will be available for public viewing as they become available at https://www.facadatabase.gov/FACA/FACAPublicViewCommitteeDetails?id=a10t0000001gzlXAAQ; click the “Meeting Details” and “Documents” links. Records generated from this meeting may also be inspected and reproduced at the Eastern Regional Office, as they become available, both before and after the meetings. Persons interested in the work of this advisory committee are advised to go to the Commission's website, www.usccr.gov, or to contact the Eastern Regional Office at the above phone numbers, email or street address.

Agenda

May 8, 2020, Friday; 11:00 a.m. (EDT)

• Roll Call

• Leadership Changes: Chair and Designated Federal Official

• Project Planning

• Open Comment

• Adjourn

Dated: April 16, 2020.
David Mussatt,
Supervisory Chief, Regional Programs Unit.

[FR Doc. 2020-08739 Filed 4-23-20; 8:45 am]

BILLING CODE P